DEPARTMENT OF HOMELAND SECURITY

Coast Guard

[Docket No. USCG-2017-0690]

Cooperative Research and Development Agreement: Environmentally Friendly Buoy Mooring System

AGENCY: Coast Guard, DHS.

ACTION: Notice of intent; request for comments.

SUMMARY: The Coast Guard is announcing its intent to enter into a Cooperative Research and Development Agreement (CRADA) with American Underwater Contractors, Inc. (AUC) to develop, demonstrate, evaluate and document the use of environmentally friendly buoy mooring systems (line and anchor) attached to a navigational buoy to determine the feasibility and practicality of the Coast Guard using both helix (screw) anchors and elastic mooring lines in environmentally sensitive areas. While the Coast Guard is currently considering partnering with AUC, we are soliciting public comment on the possible nature of and participation of other parties in the proposed CRADA. In addition, the Coast Guard also invites other potential non-Federal participants, who have the interest and capability to bring similar contributions to this type of research, to consider submitting proposals for consideration in similar CRADAs.

DATES: Comments must be submitted to the online docket via http://www.regulations.gov, or reach the Docket Management Facility, on or before September 27, 2017.

Synopses of proposals regarding future CRADAs must reach the Coast Guard (see FOR FURTHER INFORMATION CONTACT) on or before September 27, 2017.

ADDRESSES: Submit comments online at http://www.regulations.gov following Web site instructions.

FOR FURTHER INFORMATION CONTACT: If you have questions on this notice or wish to submit proposals for future CRADAs, contact Ms. Danielle Elam, Project Official, Environment and Waterways Branch, U.S. Coast Guard Research and Development Center, 1 Chelsea Street, New London, CT 06320, telephone 860-271-2693, email Danielle.L.Elam@uscg.mil.

SUPPLEMENTARY INFORMATION:

Public Participation and Request for Comments

We request public comments on this notice. Although we do not plan to respond to comments in the Federal Register, we will respond directly to commenters and may modify our proposal in light of comments.

Comments should be marked with docket number USCG-2017-0690 and should provide a reason for each suggestion or recommendation. You should provide personal contact information so that we can contact you if we have questions regarding your comments; but please note that all comments will be posted to the online docket without change and that any personal information you include can be searchable online (see the Federal Register Privacy Act notice regarding our public dockets, 73 FR 3316, Jan. 17, 2008). We also accept anonymous comments.

We encourage you to submit comments through the Federal eRulemaking Portal at http://www.regulations.gov. If your material cannot be submitted using http://www.regulations.gov, contact the Coast Guard (see FOR FURTHER INFORMATION CONTACT). Documents mentioned in this notice, and all public comments, are in our online docket at http://www.regulations.gov and can be viewed by following that Web site's instructions. Additionally, if you go to the online docket and sign up for email alerts, you will be notified when comments are posted or a final rule is published.

Do not submit detailed proposals for future CRADAs to the Docket Management Facility. Instead, submit them directly to the Coast Guard (see FOR FURTHER INFORMATION CONTACT).

Discussion

CRADAs are authorized under 15 U.S.C. 3710(a).¹ A CRADA promotes the transfer of technology to the private sector for commercial use, as well as specified research or development efforts that are consistent with the mission of the Federal parties to the CRADA. The Federal party or parties agree with one or more non-Federal parties to share research resources, but the Federal party does not contribute funding.

¹ The statute confers this authority on the head of each Federal agency. The Secretary of DHS's authority is delegated to the Coast Guard and other DHS organizational elements by DHS Delegation No. 0160.1, para. II.B.34.

CRADAs are not procurement contracts. Care is taken to ensure that CRADAs are not used to circumvent the contracting process. CRADAs have a specific purpose and should not be confused with procurement contracts, grants, and other type of agreements.

Under the proposed CRADA, the R&D Center will collaborate with one non-Federal participant. Together, the R&D Center and the non-Federal participant will collect information/data for performance, reliability, maintenance, and environmental impact of the embedment anchor and elastic mooring line. The embedment anchor and elastic mooring line will be placed in Mullet Key Channel for a period of two years, where it will be visually inspected in-situ quarterly.

Once the two years are complete, the embedment anchor and elastic mooring line will be removed from the water, inspected and then go through destructive testing.

We anticipate that the Coast Guard's contributions under the proposed CRADA will include the following:

(1) Provide appropriate staff with pertinent expertise to take the lead in accomplishing the required tasks;

(2) Draft the demonstration plan;

(3) Provide all support resources, including travel for Coast Guard staff that supports this CRADA;

(4) Obtain, transport and provide divers for the installation of the mooring system;

(5) Provide a Coast Guard boat platform and qualified Coast Guard operators for the installation and retrieval of the buoys;

(6) Provide all the resources required (except the mooring line, helical anchor and required components provided by the non-Federal participant) for the conduct of the demonstration;

(7) Collect and analyze data in accordance with the CRADA demonstration plan; and

(8) Work with non-Federal participant to develop a Final Report, which will document the methodologies, findings, conclusions, and recommendations of this CRADA work.

We anticipate that the non-Federal participants' contributions under the proposed CRADA will include the following:

(1) Provide the technical data package for all equipments, including dimensions, weight, power requirements, and other technical considerations for additional components to be utilized under this CRADA;

(2) Provide for shipment, and delivery of the mooring system required under this CRADA;

(3) Provide/pay for travel and other associated personnel costs and other required expenses.

The Coast Guard reserves the right to select for CRADA participants all, some, or no proposals submitted for this CRADA. The Coast Guard will provide no funding for reimbursement of proposal development costs. Proposals and any other material submitted in response to this notice will not be returned. Proposals submitted are expected to be unclassified and have not more than five single-sided (excluding cover page, DD 1494, JF-12, etc.). The Coast Guard will select proposals at its sole discretion on the basis of:

(1) How well they communicate an understanding, of and ability to meet, the proposed CRADA's goal; and

(2) How well they address the following criteria:

(a) Technical capability to support the non-Federal party contributions described, and

(b) Resources available for supporting the non-Federal party contributions described.

Currently, the Coast Guard is considering AUC for participation in this CRADA. This consideration is based on the fact that AUC has demonstrated its technical ability as a U.S. Distributor of embedment anchors and elastic mooring lines. However, we do not wish to exclude other viable participants from this or future similar CRADAs.

This is a technology assessment effort. The goal of the Coast Guard for this CRADA is to better understand the advantages, disadvantages, required technology enhancements, performance, costs, and other issues associated with environmentally friendly mooring systems. Special consideration will be given to small business firms/consortia, and preference will be given to business units located in the U.S. This notice is issued under the authority of 5 U.S.C. 552(a).

Dated: 7 August 2017.
Bert Macesker,
Executive Director, Acting Commanding Officer, U.S. Coast Guard Research and Development Center.

[FR Doc. 2017-18294 Filed 8-28-17; 8:45 am]

BILLING CODE 9110-04-P